DEPARTMENT OF EDUCATION

Applications for New Awards; Educational Technology, Media, and Materials for Individuals With Disabilities—Educational Materials in Accessible Formats for Children and Students With Visual Impairments and Print Disabilities

AGENCY: Office of Special Education and Rehabilitative Services, Department of Education.

ACTION: Notice.

SUMMARY: The Department of Education is issuing a notice inviting applications for new awards for fiscal year (FY) 2017 for Educational Technology, Media, and Materials for Individuals with Disabilities—Educational Materials in Accessible Formats for Children and Students with Visual Impairments and Print Disabilities, Catalog of Federal Domestic Assistance (CFDA) number 84.327D.

DATES:

Applications Available: May 24, 2017.

Deadline for Transmittal of Applications: July 10, 2017.

Deadline for Intergovernmental Review: September 6, 2017.

FOR FURTHER INFORMATION CONTACT: Gregory Knollman, U.S. Department of Education, 400 Maryland Avenue SW., Room 5076, Potomac Center Plaza, Washington, DC 20202-5108. Telephone: (202) 245-6425.

If you use a telecommunications device for the deaf (TDD) or a text telephone (TTY), call the Federal Relay Service (FRS), toll free, at 1-800-877-8339.

SUPPLEMENTARY INFORMATION:

Full Text of Announcement

I. Funding Opportunity Description

Purpose of Program: The purposes of the Educational Technology, Media, and Materials for Individuals with Disabilities Program are to: (1) Improve results for students with disabilities by promoting the development, demonstration, and use of technology; (2) support educational activities designed to be of educational value in the classroom for students with disabilities; (3) provide support for captioning and video description that is appropriate for use in the classroom; and (4) provide accessible educational materials (AEM) to students with disabilities in a timely manner.

Priority: In accordance with 34 CFR 75.105(b)(2)(v), this priority is from allowable activities specified in the statute (see sections 674(c)(1)(D) and 681(d) of the Individuals with Disabilities Education Act (IDEA), as amended (20 U.S.C. 1474(c)(1)(D) and 1481(D)).

Absolute Priority: For FY 2017 and any subsequent year in which we make awards from the list of unfunded applications from this competition, this priority is an absolute priority. Under 34 CFR 75.105(c)(3), we consider only applications that meet this priority.

This priority is:

Educational Materials in Accessible Formats for Children and Students with Visual Impairments and Print Disabilities.

Background:

The purpose of this priority is to fund a cooperative agreement to establish and operate a center that will provide free educational materials,¹ including textbooks, in accessible formats to eligible children and students— individuals who are: (1) Blind, have a visual impairment, have a physical disability, or have a print disability; (2) certified by a competent authority as unable to read typical printed material as a result of physical limitations (e.g., dyslexia, specific reading disability, and disabilities in which students are unable to manipulate standard books and materials); and (3) enrolled in elementary or secondary schools (as defined by the State) or postsecondary or graduate schools.² AEM include, but are not limited to: Electronic text, braille, audio files, description, closed captioning, and tactile graphics.

¹ For the purposes of this priority, we are using the term “educational materials” as it is used in section 674(c)(1)(D) of IDEA.

² For the purposes of this priority, eligible elementary and secondary children and students may be receiving services or modifications under IDEA, section 504 of the Rehabilitation Act of 1973, as amended, and Title II of the Americans with Disabilities Act of 1990 (ADA); eligible postsecondary students may be receiving modifications, academic adjustments or auxiliary aids and services under section 504 or Title II.

IDEA requires the provision of free educational materials, including textbooks and instructional materials, in accessible formats to eligible children and students. State educational agencies (SEAs) and local educational agencies (LEAs) must provide materials in accessible formats in a timely manner (IDEA Part B, section 612(a)(23)(B) and section 613(a)(6)(B)).

Further, under section 504 of the Rehabilitation Act of 1973, as amended, institutions of higher education (IHEs), SEAs, and LEAs must provide educational materials in accessible formats as a means to accommodate students who are blind, have a visual impairment, have a physical disability, or have a print disability. The accessible formats are needed to provide these students with an equal educational opportunity. 34 CFR 104.4.

Title II of the ADA is also applicable and requires, among other things, that public entities, including public IHEs, ensure that students with disabilities have an equal opportunity to participate in school activities and ensure that communication with students with disabilities is as effective as communication with students without disabilities, through the provision, in a timely manner, of auxiliary aids and services. 28 CFR 35.160.

As a condition of this grant, the materials and textbooks must be provided in formats that are of high quality and meet industry standards for accessibility (e.g., Web Content Accessibility Guidelines (WCAG) 2.0 Level AA Standard, EPUB Accessibility 1.0).³

³ For additional information on WCAG 2.0, please refer to www.w3.org/WAI/intro/wcag; for additional information on EPUB Accessibility 1.0, please refer to www.idpf.org/epub/a11y/techniques/techniques.html.

To help ensure the free distribution of educational materials in accessible formats, Congress has granted exceptions to copyright holders' exclusive rights to replication and distribution through the Chafee Amendment, which authorizes entities to reproduce or distribute copies of previously published works in specialized, accessible formats exclusively for use by eligible children and students.

In the 2015-2016 school year, States reported that there were 29,186 enrolled students, ages 3 through 21, who were deaf-blind or had a visual impairment, and 2,357,143 had a specific learning disability, some of whom would typically qualify as having a print disability (U.S. Department of Education, 2016). Over the past 10 years, work under this program has provided more than 400,000 students with access to AEM, which have been downloaded more than 3,350,000 times. These numbers continue to grow daily (www.bookshare.org).

This center will increase the production, availability, distribution, and use of AEM across grade levels and across ability levels. In order to do so, the center will upgrade available software to reflect new and emerging technology, increase the number of educational titles, reduce the time it takes to make accessible digital materials available, and improve the quality of these materials.

Priority:

The purpose of this priority is to fund a cooperative agreement to establish and operate a center that will provide free educational materials,⁴ including textbooks and instructional materials, in accessible formats for eligible children and students—those who are: (1) Blind, have a visual impairment, have a physical disability or have a print disability; (2) certified by a competent authority as unable to read normal printed material as a result of physical limitations (e.g., dyslexia, specific reading disability, and disabilities in which students are unable to manipulate standard books and materials); and (3) enrolled in elementary or secondary (as defined by the State) or postsecondary, or graduate schools.⁵ Prior investments established a center to acquire educational materials, convert those materials into AEM, and distribute AEM to eligible children and students. These, and new AEM produced by the center funded under this priority, must remain available to eligible children and students after the end date of the project. In addition, it is critical to expand the availability, quality, and use of AEM, and apply new and emerging technology solutions to support efficient and effective production and distribution. The center must achieve, at a minimum, the following expected outcomes:

⁴ For the purposes of this priority, we are using the term “educational materials” as it is used in section 674(c)(1)(D) of IDEA.

⁵ For the purposes of this priority, eligible elementary and secondary children and students may be receiving services under IDEA, section 504, or Title II of the ADA; eligible postsecondary students may be receiving modifications, academic adjustments, or auxiliary aids and services under section 504 or Title II.

(a) The provision of AEM for use by eligible children and students. Materials must be provided in a timely manner and directly to eligible children and students or to SEAs, LEAs, postsecondary institutions, graduate schools, and vocational rehabilitation agencies requesting materials.

(b) The provision of free, high-quality, up-to-date software needed by eligible children and students, families, schools, LEAs, SEAs, postsecondary schools, and vocational rehabilitation agencies to use the AEM.

(c) The incorporation of the most efficient, cost-effective technology available to provide timely access to AEM that can be used across multiple accessible formats, including, at a minimum, braille-ready files, audio, standard text, standard text with audio, and large print.

(d) The production and distribution of high-quality, user-friendly AEM, including digital text, braille-ready files, and audio formats, using files that are consistent with the current industry standards and guidelines (e.g., Web Content Accessibility Guidelines (WCAG) 2.0, Level AA Standard, EPUB Accessibility 1.0).

(e) The production of tools and software that can be used by developers, producers, publishers, and others to embed accessibility features into textbooks and educational materials during their initial development and production.

(f) The distribution of AEM to traditionally underserved eligible children and students (e.g., students living in poverty, homeless students, and culturally and linguistically diverse students including English learners).

In addition to these programmatic requirements, to be considered for funding under this priority, applicants must meet the application and administrative requirements in this priority, which are:

(a) Demonstrate, in the narrative section of the application under “Quality of the Project Design,” how the proposed project will—

(1) Achieve its goals, objectives, and intended outcomes. To meet this requirement, the applicant must provide—

(i) Measurable intended project outcomes;

(ii) The logic model by which the proposed project will achieve its intended outcomes. A logic model used in connection with this priority communicates how a project will achieve its intended outcomes and provides a framework for both the formative and summative evaluations of the project.

Note: Rather than use the definition of “logic model” in 34 CFR 77.1(c), OSEP uses the definition in paragraph (a)(1)(ii) of these application requirements. This definition, unlike the definition in 34 CFR 77.1(c), differentiates between logic models and conceptual frameworks. The following Web sites provide more information on logic models: www.osepideasthatwork.org/logicModel and www.osepideasthatwork.org/resources-grantees/program-areas/ta-ta/tad-project-logic-model-and-conceptual-framework.

(iii) A plan, linked to the proposed project's logic model, for a formative evaluation of the proposed project's activities. The plan must describe how the formative evaluation will use clear performance objectives to ensure continuous improvement in the operation of the proposed project, including objective measures of progress in implementing the project and ensuring quality of products and services;

(iv) A plan to implement the services and provide the products that are described in the Products and Services section of this priority;

(v) A plan that focuses on improving the quality, timeliness, ease of use, and access to AEM for eligible children and students;

(vi) A plan to ensure that eligible children and students will continue to be able to access at no cost the educational materials, including textbooks, in accessible formats, when the center is no longer federally funded, including a plan to:

(A) Provide software that is compatible for use with currently available devices. Examples include e-readers, smart phones, tablets, and data pads; and

(B) Anticipate future needs and technologies across the five years of the project;

(vii) A plan to ensure that materials and technologies are, to the maximum extent allowable under the law, openly licensed educational resources ⁶ through an open licensing authority;

⁶ Openly licensed educational resources are teaching, learning, and research resources that reside in the public domain or have been released under a license that permits their use, modification, and sharing with others. Open resources may be full online courses or digital textbooks or more granular resources such as images, videos, and assessment items.

(viii) Cost and efficiency measures, or a plan for cost and efficiency measures, for the production of AEM;

(ix) A detailed digital rights management plan that will be implemented during the project and will protect the interests of rights holders while maintaining ease of access to AEM for eligible children and students;

(x) A plan to consult with publishers, software developers, other manufacturers of AEM for eligible children and students, and the National Instructional Materials Access Center (NIMAC) ⁷ to ensure that the project uses the most efficient, cost-effective technology available to provide timely access to AEM. This plan should also address strategies to work towards universal applicability across all interfaces and media formats;

⁷ For more information regarding the NIMAC, please see: www.nimac.us/.

(xi) A plan for how the project will coordinate across multiple partners to include IHEs, SEAs, and LEAs to reduce costs of production and duplication of materials, and to improve the timeliness of distribution;

(xii) Information on how the project will develop and implement a plan for increasing IHE, SEA, and LEA use of the project's resources and AEM as part of their systems for providing educational material in accessible formats to eligible students;

(xiii) A plan for a data system that collects information on the free educational materials produced, provided, distributed to, and downloaded by, eligible children and students; and

(xiv) A description of how the project will ensure that project activities are conducted in compliance with section 121 of the copyright law, as amended (www.copyright.gov/title17/92chap1.html#121).

(b) Demonstrate, in the narrative section of the application under “Quality of the Project Products and Services,” how the proposed project will—

(1) Provide AEM, including textbooks, to SEAs and LEAs for use by eligible children and students. The AEM must be provided at no cost to the children, students, families, schools, SEAs and LEAs;

(2) Provide AEM to eligible students. Materials may be provided directly to eligible students or to postsecondary and graduate schools and vocational rehabilitation agencies requesting AEM on behalf of eligible students. The AEM and any specialized software needed to use the materials must be provided at no cost to eligible students, postsecondary and graduate schools, and vocational rehabilitation agencies. The project may not assess fees to individual eligible students or to institutions, including postsecondary schools, graduate schools, and vocational rehabilitation agencies;

(3) Provide free high-quality, up-to-date software needed to use and access the AEM by eligible children, students, families, schools, LEAs and SEAs, postsecondary and graduate schools, and vocational rehabilitation agencies. The project must also keep up to date on emerging technologies and implement changes and updates to technology, software, and other material to ensure that they continue to meet industry standards;

(4) Incorporate the most efficient, cost-effective technology available to provide timely access to AEM that can be used across alternative media formats;

(5) Produce high-quality, user-friendly AEM, including digital text, Braille-ready files, and audio formats. Materials produced as part of this cooperative agreement must include accessible digital images, charts, formulas, and graphics;

(6) Produce AEM using files that are consistent with the current industry standards for the production of AEM;

(7) Encourage and support the inclusion of accessibility features that are embedded during the development and production of the AEM by publishers and producers, where possible; and

(8) Provide AEM for historically underserved eligible children and students (e.g., students living in poverty, homeless students, and culturally and linguistically diverse students).

(c) In the narrative section of the application under “Quality of the Evaluation Plan,” include an evaluation plan for the project. The evaluation plan must describe: measures of progress in implementation, including the criteria for determining the extent to which the project's products and services have reached its target population; measures of intended outcomes or results of the project's activities in order to evaluate those activities; and how well the goals or objectives of the proposed project, as described in its logic model, have been met.

(d) Demonstrate, in the narrative section of the application under “Adequacy of Project Resources,” how—

(1) The proposed project will encourage applications for employment from persons who are members of groups that have traditionally been underrepresented based on race, color, national origin, gender, age, or disability, as appropriate;

(2) The proposed key project personnel, consultants, and subcontractors have the qualifications and experience to carry out the proposed activities and achieve the project's intended outcomes;

(3) The applicant and any key partners have adequate resources to carry out the proposed activities; and

(4) The proposed costs are reasonable in relation to the anticipated results and benefits.

(e) Demonstrate, in the narrative section of the application under “Quality of the Management Plan,” how—

(1) The proposed management plan will ensure that the project's intended outcomes will be achieved on time and within budget. To address this requirement, the applicant must describe—

(i) Clearly defined responsibilities for key project personnel, consultants, and subcontractors, as applicable; and

(ii) Timelines and milestones for accomplishing the project tasks;

(2) The proposed project will allocate key project personnel and any consultants and subcontractors and how these allocations are appropriate and adequate to achieve the project's intended outcomes;

(3) The proposed management plan will ensure that the products and services provided are of high quality, relevant, and useful to recipients;

(4) The proposed project will benefit from a diversity of perspectives, including those of families, educators, TA providers, researchers, and policy makers, among others, in its development and operation;

(5) The proposed project will establish and maintain an advisory committee consisting of representatives from an SEA and an LEA; representatives from community colleges and four-year IHEs; representatives from vocational rehabilitation agencies; eligible children and students, parents or family members of individuals with blindness, visual impairments, physical disabilities, and print disabilities; and representatives of schools or other institutions where AEM are used. The purpose of this advisory committee is to provide the project with input and ongoing advice on the project's goals, objectives, products, and services. The project must submit the proposed membership of the advisory committee to OSEP for approval within eight weeks after receipt of the award;

(6) The project will communicate and collaborate on an ongoing basis with OSEP-funded projects (see www.osepideasthatwork.org/find-center-or-grant/find-a-center), including NIMAS-related projects. Activities could include jointly developing products, training sessions, and materials; and improving the AEM delivery system to ensure timely and easy access; and

(7) The project will maintain ongoing communication with the OSEP project officer through bi-monthly phone conferences, email communication, and face-to-face meetings, as appropriate.

(f) Address the following application requirements. The applicant must—

(1) Include, in Appendix A, a logic model that depicts, at a minimum, the goals, activities, outputs, and intended outcomes of the proposed project;

(2) Include, in Appendix A, a conceptual framework for the project;

(3) Include, in Appendix A, personnel-loading charts and timelines, as applicable, to illustrate the management plan described in the narrative;

(4) Include, in the budget, attendance at the following:

(i) A one and one-half day kick-off meeting in Washington, DC, after receipt of the award, and an annual planning meeting in Washington, DC, with the OSEP project officer and other relevant staff during each subsequent year of the project period.

Note: Within 30 days of receipt of the award, a post-award teleconference must be held between the OSEP project officer and the grantee's project director or other authorized representative. The primary purpose of this meeting will be to review the Department's grantee requirements, discuss the project's planned activities and budget, and confirm the expectations for the project's performance measures and evaluation.

(ii) A two and one-half day project directors' conference in Washington, DC, during each year of the project period;

(iii) Two annual two-day trips to attend Department briefings, Department-sponsored conferences, and other meetings, as requested by OSEP, and to meet with the OSEP project officer and other funded projects for the purposes of cross-project collaboration and information exchange; and

(iv) A one-day intensive 3+2 review meeting in Washington, DC, during the last half of the second year of the project period;

(5) Include, in the budget, a line item for an annual set-aside of five percent of the grant amount to support emerging needs that are consistent with the proposed project's intended outcomes, as those needs are identified in consultation with and approved by the OSEP project officer. With approval from the OSEP project officer, the project must reallocate any remaining funds from this annual set-aside no later than the end of the third quarter of each budget period; and

(6) Maintain a high-quality Web site, with an easy-to-navigate design, that meets government or industry-recognized standards for accessibility; and

(7) Include, in Appendix A, an assurance to assist OSEP with the transfer of pertinent resources and products and to maintain the continuity of services to States during the transition to this new award period, as appropriate.

Fourth and Fifth Years of the Project:

In deciding whether to continue funding the project for the fourth and fifth years, the Secretary will consider the requirements of 34 CFR 75.253(a), as well as—

(a) The recommendation of a 3+2 review team consisting of experts selected by the Secretary. This review will be conducted during a one-day intensive meeting that will be held during the last half of the second year of the project period;

(b) The timeliness with which, and how well, the requirements of the negotiated cooperative agreement have been or are being met by the project; and

(c) The quality, relevance, and usefulness of the project's products and services and the extent to which the project's products and services are aligned with the project's objectives and likely to result in the project achieving its intended outcomes.

References:

Chafee Amendment to the Copyright Law. (1996). 17 U.S.C. 121 [1]. Retrieved from www.copyright.gov/title17/92chap1.html#121.

U.S. Department of Education. (2016). IDEA section 618 data products: Static tables (2014-2015). Retrieved from http://www2.ed.gov/programs/osepidea/618-data/static-tables/index.html#partb-cc.

Waiver of Proposed Rulemaking: Under the Administrative Procedure Act (APA) (5 U.S.C. 553) the Department generally offers interested parties the opportunity to comment on proposed priorities. Section 681(d) of IDEA, however, makes the public comment requirements of the APA inapplicable to the priority in this notice.

Program Authority: 20 U.S.C. 1474 and 1481.

Applicable Regulations: (a) The Education Department General Administrative Regulations in 34 CFR parts 75, 77, 79, 81, 82, 84, 86, 97, 98, and 99. (b) The Office of Management and Budget Guidelines to Agencies on Governmentwide Debarment and Suspension (Nonprocurement) in 2 CFR part 180, as adopted and amended as regulations of the Department in 2 CFR part 3485. (c) The Uniform Administrative Requirements, Cost Principles, and Audit Requirements for Federal Awards in 2 CFR part 200, as adopted and amended as regulations of the Department in 2 CFR part 3474.

Note: The regulations in 34 CFR part 79 apply to all applicants except federally recognized Indian Tribes.

Note: The regulations in 34 CFR part 86 apply to IHEs only.

II. Award Information

Type of Award: Cooperative agreement.

Estimated Available Funds: The Administration has requested $30,047,000 for the Educational Technology, Media, and Materials for Individuals with Disabilities program for FY 2017, of which we intend to use an estimated $8,500,000 for this competition. The actual level of funding, if any, depends on final congressional action. However, we are inviting applications to allow enough time to complete the grant process if Congress appropriates funds for this program.

Contingent upon the availability of funds and the quality of applications, we may make additional awards in FY 2018 from the list of unfunded applications from this competition.

Maximum Award: We will reject any application that proposes a budget exceeding $8,500,000 for a single budget period of 12 months.

Estimated Number of Awards: 1.

Note: The Department is not bound by any estimates in this notice.

Project Period: Up to 60 months.

III. Eligibility Information

1. Eligible Applicants: SEAs; LEAs, including public charter schools that are considered LEAs under State law; IHEs; other public agencies; private nonprofit organizations; freely associated States and outlying areas; Indian Tribes or Tribal organizations; and for-profit organizations.

2. Cost Sharing or Matching: This program does not require cost sharing or matching.

3. Eligible Subgrantees: (a) Under 34 CFR 75.708(b) and (c) a grantee may award subgrants—to directly carry out project activities described in its application—to the following types of entities: IHEs and private nonprofit organizations suitable to carry out the activities proposed in the application.

(b) The grantee may award subgrants to entities it has identified in an approved application.

4. Other General Requirements:

(a) Recipients of funding under this competition must make positive efforts to employ and advance in employment qualified individuals with disabilities (see section 606 of IDEA).

(b) Each applicant for, and recipient of, funding must, with respect to the aspects of their proposed project relating to the absolute priority, involve individuals with disabilities, or parents of individuals with disabilities ages birth through 26, in planning, implementing, and evaluating the project (see section 682(a)(1)(A) of IDEA).

IV. Application and Submission Information

1. Address To Request Application Package: You can obtain an application package via the internet or from the Education Publications Center (ED Pubs). To obtain a copy via the internet, use the following address: www.ed.gov/fund/grant/apply/grantapps/index.html. To obtain a copy from ED Pubs, write, fax, or call: ED Pubs, U.S. Department of Education, P.O. Box 22207, Alexandria, VA 22304. Telephone, toll free: 1-877-433-7827. FAX: (703) 605-6794. If you use a TDD or a TTY, call, toll free: 1-877-576-7734.

You can contact ED Pubs at its Web site, also: www.EDPubs.gov or at its email address: edpubs@inet.ed.gov.

If you request an application package from ED Pubs, be sure to identify this competition as follows: CFDA number 84.327D.

Individuals with disabilities can obtain a copy of the application package in an accessible format (e.g., braille, large print, audiotape, or compact disc) by contacting the person or team listed under Accessible Format in section VII of this notice.

2. Content and Form of Application Submission: Requirements concerning the content and form of an application, together with the forms you must submit, are in the application package for this competition. Page Limit: The application narrative (Part III of the application) is where you, the applicant, address the selection criteria that reviewers use to evaluate your application. We recommend that you (1) limit Part III to no more than 70 pages, and (2) use the following standards:

• A “page” is 8.5″ x 11″, on one side only, with 1″ margins at the top, bottom, and both sides.

• Double-space (no more than three lines per vertical inch) all text in the application narrative, including titles, headings, footnotes, quotations, reference citations, and captions, as well as all text in charts, tables, figures, graphs, and screen shots.

• Use a font that is 12 point or larger.

• Use one of the following fonts: Times New Roman, Courier, Courier New, or Arial.

The recommended page limit does not apply to Part I, the cover sheet; Part II, the budget section, including the narrative budget justification; Part IV, the assurances and certifications; or the abstract (follow the guidance provided in the application package for completing the abstract), the table of contents, the list of priority requirements, the resumes, the reference list, the letters of support, or the appendices. However, the recommended page limit does apply to all of Part III, the application narrative, including all text in charts, tables, figures, graphs, and screen shots.

3. Submission Dates and Times:

Applications Available: May 24, 2017.

Deadline for Transmittal of Applications: July 10, 2017.

Applications for grants under this competition must be submitted electronically using the Grants.gov Apply site (Grants.gov). For information (including dates and times) about how to submit your application electronically, or in paper format by mail or hand delivery if you qualify for an exception to the electronic submission requirement, please refer to Other Submission Requirements in section IV of this notice.

We do not consider an application that does not comply with the deadline requirements.

Individuals with disabilities who need an accommodation or auxiliary aid in connection with the application process should contact the person listed under FOR FURTHER INFORMATION CONTACT. If the Department provides an accommodation or auxiliary aid to an individual with a disability in connection with the application process, the individual's application remains subject to all other requirements and limitations in this notice.

Deadline for Intergovernmental Review: September 6, 2017.

4. Intergovernmental Review: This competition is subject to Executive Order 12372 and the regulations in 34 CFR part 79. Information about Intergovernmental Review of Federal Programs under Executive Order 12372 is in the application package for this competition.

5. Funding Restrictions: We reference regulations outlining funding restrictions in the Applicable Regulations section of this notice.

6. Data Universal Numbering System Number, Taxpayer Identification Number, and System for Award Management: To do business with the Department of Education, you must—

a. Have a Data Universal Numbering System (DUNS) number and a Taxpayer Identification Number (TIN);

b. Register both your DUNS number and TIN with the System for Award Management (SAM), the Government's primary registrant database;

c. Provide your DUNS number and TIN on your application; and

d. Maintain an active SAM registration with current information while your application is under review by the Department and, if you are awarded a grant, during the project period.

You can obtain a DUNS number from Dun and Bradstreet at the following Web site: http://fedgov.dnb.com/webform. A DUNS number can be created within one to two business days.

If you are a corporate entity, agency, institution, or organization, you can obtain a TIN from the Internal Revenue Service. If you are an individual, you can obtain a TIN from the Internal Revenue Service or the Social Security Administration. If you need a new TIN, please allow two to five weeks for your TIN to become active.

The SAM registration process can take approximately seven business days, but may take upwards of several weeks, depending on the completeness and accuracy of the data you enter into the SAM database. Thus, if you think you might want to apply for Federal financial assistance under a program administered by the Department, please allow sufficient time to obtain and register your DUNS number and TIN. We strongly recommend that you register early.

Note: Once your SAM registration is active, it may be 24 to 48 hours before you can access the information in, and submit an application through, Grants.gov.

If you are currently registered with SAM, you may not need to make any changes. However, please make certain that the TIN associated with your DUNS number is correct. Also note that you will need to update your registration annually. This may take three or more business days.

Information about SAM is available at www.SAM.gov. To further assist you with obtaining and registering your DUNS number and TIN in SAM or updating your existing SAM account, we have prepared a SAM.gov Tip Sheet, which you can find at: www2.ed.gov/fund/grant/apply/sam-faqs.html.

In addition, if you are submitting your application via Grants.gov, you must (1) Be designated by your organization as an Authorized Organization Representative (AOR); and (2) register yourself with Grants.gov as an AOR. Details on these steps are outlined at the following Grants.gov Web page: www.grants.gov/web/grants/register.html.

7. Other Submission Requirements: Applications for grants under this competition must be submitted electronically unless you qualify for an exception to this requirement in accordance with the instructions in this section.

a. Electronic Submission of Applications.

Applications for grants under the Educational Materials in Accessible Formats for Children and Students with Visual Impairments and Print Disabilities competition, CFDA number 84.327D, must be submitted electronically using the Governmentwide Grants.gov Apply site at www.Grants.gov. Through this site, you will be able to download a copy of the application package, complete it offline, and then upload and submit your application. You may not email an electronic copy of a grant application to us.

We will reject your application if you submit it in paper format unless, as described elsewhere in this section, you qualify for one of the exceptions to the electronic submission requirement and submit, no later than two weeks before the application deadline date, a written statement to the Department that you qualify for one of these exceptions. Further information regarding calculation of the date that is two weeks before the application deadline date is provided later in this section under Exception to Electronic Submission Requirement.

You may access the electronic grant application for the Educational Materials in Accessible Formats for Children and Students with Visual Impairments and Print Disabilities competition at www.Grants.gov. You must search for the downloadable application package for this competition by the CFDA number. Do not include the CFDA number's alpha suffix in your search (e.g., search for 84.327, not 84.327D).

Please note the following:

• When you enter the Grants.gov site, you will find information about submitting an application electronically through the site, as well as the hours of operation.

• Applications received by Grants.gov are date and time stamped. Your application must be fully uploaded and submitted and must be date and time stamped by the Grants.gov system no later than 4:30:00 p.m., Washington, DC time, on the application deadline date. Except as otherwise noted in this section, we will not accept your application if it is received—that is, date and time stamped by the Grants.gov system—after 4:30:00 p.m., Washington, DC time, on the application deadline date. We do not consider an application that does not comply with the deadline requirements. When we retrieve your application from Grants.gov, we will notify you if we are rejecting your application because it was date and time stamped by the Grants.gov system after 4:30:00 p.m., Washington, DC time, on the application deadline date.

• The amount of time it can take to upload an application will vary depending on a variety of factors, including the size of the application and the speed of your internet connection. Therefore, we strongly recommend that you do not wait until the application deadline date to begin the submission process through Grants.gov.

• You should review and follow the Education Submission Procedures for submitting an application through Grants.gov that are included in the application package for this competition to ensure that you submit your application in a timely manner to the Grants.gov system. You can also find the Education Submission Procedures pertaining to Grants.gov under News and Events on the Department's G5 system home page at www.G5.gov. In addition, for specific guidance and procedures for submitting an application through Grants.gov, please refer to the Grants.gov Web site at: www.grants.gov/web/grants/applicants/apply-for-grants.html.

• You will not receive additional point value because you submit your application in electronic format, nor will we penalize you if you qualify for an exception to the electronic submission requirement, as described elsewhere in this section, and submit your application in paper format.

• You must submit all documents electronically, including all information you typically provide on the following forms: the Application for Federal Assistance (SF 424), the Department of Education Supplemental Information for SF 424, Budget Information—Non-Construction Programs (ED 524), and all necessary assurances and certifications.

• You must upload any narrative sections and all other attachments to your application as files in a read-only Portable Document Format (PDF). Do not upload an interactive or fillable PDF file. If you upload a file type other than a read-only PDF (e.g., Word, Excel, WordPerfect, etc.) or submit a password-protected file, we will not review that material. Please note that this could result in your application not being considered for funding because the material in question—for example, the application narrative—is critical to a meaningful review of your proposal. For that reason it is important to allow yourself adequate time to upload all material as PDF files. The Department will not convert material from other formats to PDF. Additional, detailed information on how to attach files is in the application instructions.

• After you electronically submit your application, you will receive from Grants.gov an automatic notification of receipt that contains a Grants.gov tracking number. This notification indicates receipt by Grants.gov only, not receipt by the Department. Grants.gov will also notify you automatically by email if your application met all the Grants.gov validation requirements or if there were any errors (such as submission of your application by someone other than a registered Authorized Organization Representative, or inclusion of an attachment with a file name that contains special characters). You will be given an opportunity to correct any errors and resubmit, but you must still meet the deadline for submission of applications.

Once your application is successfully validated by Grants.gov, the Department will retrieve your application from Grants.gov and send you an email with a unique PR/Award number for your application.

These emails do not mean that your application is without any disqualifying errors. While your application may have been successfully validated by Grants.gov, it must also meet the Department's application requirements as specified in this notice and in the application instructions. Disqualifying errors could include, for instance, failure to upload attachments in a read-only PDF; failure to submit a required part of the application; or failure to meet applicant eligibility requirements. It is your responsibility to ensure that your submitted application has met all of the Department's requirements.

• We may request that you provide us original signatures on forms at a later date.

Application Deadline Date Extension in Case of Technical Issues With the Grants.gov System: If you are experiencing problems submitting your application through Grants.gov, please contact the Grants.gov Support Desk, toll free, at 1-800-518-4726. You must obtain a Grants.gov Support Desk Case Number and must keep a record of it.

If you are prevented from electronically submitting your application on the application deadline date because of technical problems with the Grants.gov system, we will grant you an extension until 4:30:00 p.m., Washington, DC time, the following business day to enable you to transmit your application electronically or by hand delivery. You also may mail your application by following the mailing instructions described elsewhere in this notice.

If you submit an application after 4:30:00 p.m., Washington, DC time, on the application deadline date, please contact the person listed under FOR FURTHER INFORMATION CONTACT and provide an explanation of the technical problem you experienced with Grants.gov, along with the Grants.gov Support Desk Case Number. We will accept your application if we can confirm that a technical problem occurred with the Grants.gov system and that the problem affected your ability to submit your application by 4:30:00 p.m., Washington, DC time, on the application deadline date. We will contact you after we determine whether your application will be accepted.

Note: The extensions to which we refer in this section apply only to the unavailability of, or technical problems with, the Grants.gov system. We will not grant you an extension if you failed to fully register to submit your application to Grants.gov before the application deadline date and time or if the technical problem you experienced is unrelated to the Grants.gov system.

Exception to Electronic Submission Requirement: You qualify for an exception to the electronic submission requirement, and may submit your application in paper format, if you are unable to submit an application through the Grants.gov system because—

• You do not have access to the internet; or

• You do not have the capacity to upload large documents to the Grants.gov system;

and

• No later than two weeks before the application deadline date (14 calendar days or, if the fourteenth calendar day before the application deadline date falls on a Federal holiday, the next business day following the Federal holiday), you mail or fax a written statement to the Department, explaining which of the two grounds for an exception prevents you from using the internet to submit your application.

If you mail your written statement to the Department, it must be postmarked no later than two weeks before the application deadline date. If you fax your written statement to the Department, we must receive the faxed statement no later than two weeks before the application deadline date.

Address and mail or fax your statement to: Gregory Knollman, U.S. Department of Education, 400 Maryland Avenue SW., Room 5158, Potomac Center Plaza, Washington, DC 20202-5076. FAX: (202) 245-7590.

Your paper application must be submitted in accordance with the mail or hand-delivery instructions described in this notice.

b. Submission of Paper Applications by Mail.

If you qualify for an exception to the electronic submission requirement, you may mail (through the U.S. Postal Service or a commercial carrier) your application to the Department. You must mail the original and two copies of your application, on or before the application deadline date, to the Department at the following address: U.S. Department of Education, Application Control Center, Attention: (CFDA Number 84.327D), LBJ Basement Level 1, 400 Maryland Avenue SW., Washington, DC 20202-4260.

You must show proof of mailing consisting of one of the following:

(1) A legibly dated U.S. Postal Service postmark.

(2) A legible mail receipt with the date of mailing stamped by the U.S. Postal Service.

(3) A dated shipping label, invoice, or receipt from a commercial carrier.

(4) Any other proof of mailing acceptable to the Secretary of the U.S. Department of Education.

If you mail your application through the U.S. Postal Service, we do not accept either of the following as proof of mailing:

(1) A private metered postmark.

(2) A mail receipt that is not dated by the U.S. Postal Service.

Note: The U.S. Postal Service does not uniformly provide a dated postmark. Before relying on this method, you should check with your local post office.

We will not consider applications postmarked after the application deadline date.

c. Submission of Paper Applications by Hand Delivery.

If you qualify for an exception to the electronic submission requirement, you (or a courier service) may deliver your paper application to the Department by hand. You must deliver the original and two copies of your application by hand, on or before the application deadline date, to the Department at the following address: U.S. Department of Education, Application Control Center, Attention: (CFDA Number 84.327D), 550 12th Street SW., Room 7039, Potomac Center Plaza, Washington, DC 20202-4260.

The Application Control Center accepts hand deliveries daily between 8:00 a.m. and 4:30:00 p.m., Washington, DC time, except Saturdays, Sundays, and Federal holidays.

Note for Mail or Hand Delivery of Paper Applications: If you mail or hand deliver your application to the Department—

(1) You must indicate on the envelope and—if not provided by the Department—in Item 11 of the SF 424 the CFDA number, including suffix letter, if any, of the competition under which you are submitting your application; and

(2) The Application Control Center will mail to you a notification of receipt of your grant application. If you do not receive this notification within 15 business days from the application deadline date, you should call the U.S. Department of Education Application Control Center at (202) 245-6288.

V. Application Review Information

1. Selection Criteria: The selection criteria for this competition are as follows:

a. Quality of project design (20 points).

(1) The Secretary considers the quality of the services to be provided by the proposed project.

(2) In addition, the Secretary considers the following factors:

(i) The extent to which the goals, objectives, and outcomes intended to be achieved by the proposed project are clearly specified and measurable;

(ii) The extent to which there is a conceptual framework underlying the proposed research or demonstration activities and the quality of that framework;

(iii) The extent to which the services are of sufficient quality, intensity, and duration to lead to outcomes to be achieved by the proposed project;

(iv) The extent to which the proposed activities constitute a coherent, sustained program of research and development in the field including, as appropriate, a substantial addition to an ongoing line of inquiry;

(v) The extent to which the proposed project includes a thorough, high-quality plan for project implementation, and the use of appropriate methodological tools to ensure successful achievement of project objectives;

(vi) The extent to which the proposed development efforts include adequate quality controls and, as appropriate, repeated testing of products; and

(vii) The extent to which the services provided by the proposed project involve the collaboration of appropriate partners for maximizing the effectiveness of project services.

b. Quality of project products and services (20 points).

(1) The Secretary considers the quality of the products and services to be provided by the proposed project.

(2) In determining the quality of the products and/or services to be provided by the proposed project, the Secretary considers the quality and sufficiency of strategies for ensuring equal access and treatment for eligible project participants who are members of groups that have traditionally been underrepresented based on race, color, national origin, gender, age or disability.

(3) In addition, the Secretary considers the following factors:

(i) The extent to which the products and services to be provided by the proposed project reflect up-to-date knowledge from research and effective practice;

(ii) The extent to which the products and services are of sufficient quality, intensity and duration to lead to the outcomes intended to be achieved by the proposed project;

(iii) The extent to which the products and services to be provided by the proposed project involve the collaboration of appropriate partners for maximizing the effectiveness of project products and services; and

(iv) The likely utility of the products and services that will result from the proposed project including their potential for being used effectively in a variety of other settings.

c. Quality of the evaluation plan (20 points).

(1) The Secretary considers the quality of the evaluation to be conducted of the proposed project.

(2) In determining the quality of the evaluation, the Secretary considers the following factors:

(i) The extent to which the methods of evaluation are thorough, feasible, and appropriate to the goals, objectives, and intended outcomes of the proposed project;

(ii) The extent to which the methods of evaluation will provide performance feedback and permit periodic assessment of progress toward achieving intended outcomes;

(iii) The extent to which the methods of evaluation include the use of objective performance measures that are clearly related to the intended outcomes of the project and will produce quantitative and qualitative data to the extent possible; and

(iv) The extent to which the methods of evaluation will provide timely guidance for quality assurance.

d. Adequacy of project resources (20 points).

(1) The Secretary considers the adequacy of resources, including the personnel who will carry out the proposed project.

(2) In determining the adequacy of resources, the Secretary considers the extent to which the applicant encourages applications for employment from persons who are members of groups that have traditionally been underrepresented based on race, color, national origin, gender, age, or disability.

(3) In addition, the Secretary considers the following factors:

(i) The qualifications, including relevant training and experience, of key project personnel (i.e., project director and project staff);

(ii) The qualifications, including relevant training and experience, of project consultants or subcontractors;

(iii) The adequacy of support, including facilities, equipment, supplies, and other resources, from the applicant organization and key partners;

(iv) The extent to which the costs are reasonable in relation to the number of persons to be served and to the anticipated results and benefits;

(v) The relevance and demonstrated commitment of each partner in the proposed project to the implementation and success of the project; and

(vi) The extent to which the costs are reasonable in relation to the objectives, design, and potential significance of the proposed project.

e. Quality of the management plan (20 points).

(1) The Secretary considers the quality of the management plan for the proposed project.

(2) In determining the quality of the management plan for the proposed project, the Secretary considers the following factors:

(i) The adequacy of the management plan to achieve the objectives of the proposed project on time and within budget, including clearly defined responsibilities, timelines, and milestones for accomplishing project tasks;

(ii) The extent to which the time commitments of the project director and principal investigator and other key project personnel are appropriate and adequate to meet the objectives of the proposed project;

(iii) The adequacy of mechanisms for ensuring high-quality products and services from the proposed project;

(iv) The adequacy of procedures for ensuring feedback and continuous improvement in the operation of the proposed project; and

(v) How the applicant will ensure that a diversity of perspectives are brought to bear in the operation of the proposed project, including those of parents, teachers, the business community, a variety of disciplinary and professional fields, recipients or beneficiaries of services, or others, as appropriate.

2. Review and Selection Process: We remind potential applicants that in reviewing applications in any discretionary grant competition, the Secretary may consider, under 34 CFR 75.217(d)(3), the past performance of the applicant in carrying out a previous award, such as the applicant's use of funds, achievement of project objectives, and compliance with grant conditions. The Secretary may also consider whether the applicant failed to submit a timely performance report or submitted a report of unacceptable quality.

In addition, in making a competitive grant award, the Secretary requires various assurances, including those applicable to Federal civil rights laws that prohibit discrimination in programs or activities receiving Federal financial assistance from the Department of Education (34 CFR 100.4, 104.5, 106.4, 108.8, and 110.23).

3. Additional Review and Selection Process Factors: In the past, the Department has had difficulty finding peer reviewers for certain competitions because so many individuals who are eligible to serve as peer reviewers have conflicts of interest. The standing panel requirements under section 682(b) of IDEA also have placed additional constraints on the availability of reviewers. Therefore, the Department has determined that for some discretionary grant competitions, applications may be separated into two or more groups and ranked and selected for funding within specific groups. This procedure will make it easier for the Department to find peer reviewers by ensuring that greater numbers of individuals who are eligible to serve as reviewers for any particular group of applicants will not have conflicts of interest. It also will increase the quality, independence, and fairness of the review process, while permitting panel members to review applications under discretionary grant competitions for which they also have submitted applications.

4. Risk Assessment and Special Conditions: Consistent with 2 CFR 200.205, before awarding grants under this competition the Department conducts a review of the risks posed by applicants. Under 2 CFR 3474.10, the Secretary may impose special conditions and, in appropriate circumstances, high-risk conditions on a grant if the applicant or grantee is not financially stable; has a history of unsatisfactory performance; has a financial or other management system that does not meet the standards in 2 CFR part 200, subpart D; has not fulfilled the conditions of a prior grant; or is otherwise not responsible.

5. Integrity and Performance System: If you are selected under this competition to receive an award that over the course of the project period may exceed the simplified acquisition threshold (currently $150,000), under 2 CFR 200.205(a)(2), we must make a judgment about your integrity, business ethics, and record of performance under Federal awards—that is, the risk posed by you as an applicant—before we make an award. In doing so, we must consider any information about you that is in the integrity and performance system (currently referred to as the Federal Awardee Performance and Integrity Information System (FAPIIS)), accessible through SAM. You may review and comment on any information about yourself that a Federal agency previously entered and that is currently in FAPIIS.

Please note that, if the total value of your currently active grants, cooperative agreements, and procurement contracts from the Federal Government exceeds $10,000,000, the reporting requirements in 2 CFR part 200, Appendix XII, require you to report certain integrity information to FAPIIS semiannually. Please review the requirements in 2 CFR part 200, Appendix XII, if this grant plus all the other Federal funds you receive exceed $10,000,000.

VI. Award Administration Information

1. Award Notices: If your application is successful, we notify your U.S. Representative and U.S. Senators and send you a Grant Award Notification (GAN); or we may send you an email containing a link to access an electronic version of your GAN. We may notify you informally, also.

If your application is not evaluated or not selected for funding, we notify you.

2. Administrative and National Policy Requirements: We identify administrative and national policy requirements in the application package and reference these and other requirements in the Applicable Regulations section of this notice.

We reference the regulations outlining the terms and conditions of an award in the Applicable Regulations section of this notice and include these and other specific conditions in the GAN. The GAN also incorporates your approved application as part of your binding commitments under the grant.

3. Reporting: (a) If you apply for a grant under this competition, you must ensure that you have in place the necessary processes and systems to comply with the reporting requirements in 2 CFR part 170 should you receive funding under the competition. This does not apply if you have an exception under 2 CFR 170.110(b).

(b) At the end of your project period, you must submit a final performance report, including financial information, as directed by the Secretary. If you receive a multiyear award, you must submit an annual performance report that provides the most current performance and financial expenditure information as directed by the Secretary under 34 CFR 75.118. The Secretary may also require more frequent performance reports under 34 CFR 75.720(c). For specific requirements on reporting, please go to www.ed.gov/fund/grant/apply/appforms/appforms.html.

4. Performance Measures: Under the Government Performance and Results Act of 1993 (GPRA), the Department has established a set of performance measures, including long-term measures, that are designed to yield information on various aspects of the effectiveness and quality of the Educational Technology, Media, and Materials for Individuals with Disabilities Program. These measures are included in the application package and focus on the extent to which projects are of high quality, are relevant to improving outcomes of children with disabilities, contribute to improving outcomes for children with disabilities, and generate evidence of validity and availability to appropriate populations. Projects funded under this competition are required to submit data on these measures as directed by OSEP.

Grantees will be required to report information on their project's performance in annual performance reports and additional performance data to the Department (34 CFR 75.590 and 75.591).

5. Continuation Awards: In making a continuation award under 34 CFR 75.253, the Secretary considers, among other things: Whether a grantee has made substantial progress in achieving the goals and objectives of the project; whether the grantee has expended funds in a manner that is consistent with its approved application and budget; and, if the Secretary has established performance measurement requirements, the performance targets in the grantee's approved application.

In making a continuation award, the Secretary also considers whether the grantee is operating in compliance with the assurances in its approved application, including those applicable to Federal civil rights laws that prohibit discrimination in programs or activities receiving Federal financial assistance from the Department (34 CFR 100.4, 104.5, 106.4, 108.8, and 110.23).

VII. Other Information

Accessible Format: Individuals with disabilities can obtain this document and a copy of the application package in an accessible format (e.g., braille, large print, audiotape, or compact disc) by contacting the Management Support Services Team, U.S. Department of Education, 400 Maryland Avenue SW., Room 5113, Potomac Center Plaza, Washington, DC 20202-2500. Telephone: (202) 245-7363. If you use a TDD or a TTY, call the FRS, toll free, at 1-800-877-8339.

Electronic Access to This Document: The official version of this document is the document published in the Federal Register. Free internet access to the official edition of the Federal Register and the Code of Federal Regulations is available via the Federal Digital System at: www.gpo.gov/fdsys. At this site you can view this document, as well as all other documents of this Department published in the Federal Register, in text or PDF. To use PDF you must have Adobe Acrobat Reader, which is available free at the site.

You may also access documents of the Department published in the Federal Register by using the article search feature at: www.federalregister.gov. Specifically, through the advanced search feature at this site, you can limit your search to documents published by the Department.

Dated: May 19, 2017.
Ruth E. Ryder,
Deputy Director, Office of Special Education Programs, Delegated the duties of the Assistant Secretary for Special Education and Rehabilitative Services.

[FR Doc. 2017-10664 Filed 5-23-17; 8:45 am]

BILLING CODE 4000-01-P